NATIONAL AERONAUTICS AND SPACE ADMINISTRATION

[Notice (06-014)]

Government-Owned Inventions, Available for Licensing

AGENCY: National Aeronautics and Space Administration.

ACTION: Notice of availability of inventions for licensing.

SUMMARY: The invention listed below is assigned to the National Aeronautics and Space Administration, has been filed in the United States Patent and Trademark office, and is available for licensing.

DATES: March 2, 2006.

FOR FURTHER INFORMATION CONTACT: Linda B. Blackburn, Patent Counsel, Langley Research Center, Mail Code 141, Hampton, VA 23681-2199; telephone (757) 864-9260; fax (757) 864-9190.

NASA Case No. LAR-17280-1: Magnetic Field Response Measurement Acquisition System.

Dated: February 24, 2006.
Keith T. Sefton,
Deputy General Counsel, Administration and Management.

[FR Doc. E6-2997 Filed 3-1-06; 8:45 am]

BILLING CODE 7510-13-P